DEPARTMENT OF HOUSING AND URBAN DEVELOPMENT

[Docket No. FR-5557-D-02]

Order of Succession for the Office of Housing

AGENCY: Office of the Assistant Secretary for Housing-Federal Housing Commissioner, HUD.

ACTION: Notice of Order of Succession.

SUMMARY: In this notice, the Acting Assistant Secretary for Housing designates the Order of Succession for the Office of Housing. This Order of Succession supersedes all prior Orders of Succession for the Assistant Secretary for Housing, including that published on October 18, 2006 (71 FR 61500).

DATES: Effective Date: June 5, 2012.

FOR FURTHER INFORMATION CONTACT: Laura Marin, Senior Advisor, Office of Housing, Department of Housing and Urban Development, 451 Seventh Street SW., Room 9110, Washington, DC 20410-0500; telephone number 202-402-2689 (this is not a toll-free number). Persons with hearing or speech impairments may call HUD's toll-free Federal Relay Service at 800-877-8339.

SUPPLEMENTARY INFORMATION: The Acting Assistant Secretary for Housing for the Department of Housing and Urban Development is issuing this Order of Succession of officials authorized to perform the functions and duties of the Office of Housing when, by reason of absence, disability, or vacancy in office, the Acting Assistant Secretary is not available to exercise the powers or perform the duties of the office. This Order of Succession is subject to the provisions of the Federal Vacancies Reform Act of 1998 (5 U.S.C. 3345-3349d). This publication supersedes the Order of Succession notice published on October 18, 2006 (71 FR 61500).

Accordingly, the Acting Assistant Secretary for Housing designates the following Order of Succession:

Section A. Order of Succession

Subject to the provisions of the Federal Vacancies Reform Act of 1998, during any period when, by reason of absence, disability, or vacancy in office, the Acting Assistant Secretary for Housing for the Department of Housing and Urban Development is not available to exercise the powers or perform the duties of the Office of the Assistant Secretary for Housing, the following officials within the Office of Housing are hereby designated to exercise the powers and perform the duties of the Acting Assistant Secretary for Housing, including the authority to waive regulations:

(1) Deputy Assistant Secretary for Multifamily Housing;

(2) Deputy Assistant Secretary for Single Family Housing;

(3) Deputy Assistant Secretary for Risk Management and Regulatory Affairs;

(4) General Deputy Assistant Secretary for Housing;

(5) Associate General Deputy Assistant Secretary for Housing;

(6) Deputy Assistant Secretary for Finance and Budget;

(7) Deputy Assistant Secretary for Operations; and

(8) Deputy Assistant Secretary for Healthcare Programs.

These officials shall perform the functions and duties of the office in the order specified herein, and no official shall serve unless all other officials whose position titles precede his/hers in this order are unable to act by reason of absence, disability, or vacancy in office.

Section B. Authority Superseded

This Order of Succession supersedes all prior Orders of Succession for the Assistant Secretary for Housing, including that published on October 18, 2006 (71 FR 61500).

Authority: Section 7(d), Department of Housing and Urban Development Act, 42 U.S.C. 3535(d).

Dated: June 5, 2012.
Carol J. Galante,
Acting Assistant Secretary for Housing—Federal Housing Commissioner.

[FR Doc. 2012-15065 Filed 6-19-12; 8:45 am]

BILLING CODE 4210-67-P